DEPARTMENT OF ENERGY

Federal Energy Regulatory Commission

Notice of Settlement Agreement and Soliciting Comments

September 24, 2001.

Take notice that the following Settlement Agreement has been filed with the Commission and is available for public inspection.

a. Type of Application: Settlement Agreement.

b. Project No.: 2496-051.

c. Date filed: September 13, 2001.

d. Applicant: Eugene Water & Electric Board.

e. Name of Project: Leaburg-Walterville Hydroelectric Project.

f. Location: On the McKenzie River, in Lane County, Oregon. The project does not occupy any federal land.

g. Filed Pursuant to: Rule 602 of the Commission's Rules of Practice and Procedure, 18 CFR 385.602.

h. Applicant Contact: Gale Banry, Relicensing Project Manager, Eugene Water & Electric Board, 500 East 4th Avenue, P.O. Box 10148, Eugene, OR 97440, (541) 484-2411.

i. FERC Contact: John Smith, 202-219-2460, john.smith@ferc.fed.us.

j. Deadline for filing comments: October 15, 2001. Reply comments due October 30, 2001.

All documents (original and eight copies) should be filed with: David P. Boergers, Secretary, Federal Energy Regulatory Commission, 888 First Street, NE., Washington, DC 20426. Comments may be filed electronically via the internet in lieu of paper. See 18 CFR 385.2001(a)(1)(iii) and the instructions on the Commission's website (http://www.ferc.gov) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Filing: Eugene Water & Electric Board filed the Settlement Agreement on behalf of itself and the U.S. Department of Commerce's National Marine Fisheries Service (NMFS) and the U.S. Department of the Interior's Fish and Wildlife Service (FWS). The purpose of the Settlement Agreement is to resolve among the signatories issues raised in NMFS's and FWS's pending Request for Rehearing and Reconsideration and EWEB's pending Petition for Rehearing of the Commission's April 27, 2000, Order on Remand and Lifting Stays for the Leaburg-Walterville Hydroelectric Project (FERC Project No. 2496). The signatories request that the Commission accept the Offer of Settlement; approve the Agreement and the construction schedule proposed pursuant to license article 403 (Attachment 2 to the Offer of Settlement) without material modification; substitute revised and updated license articles 410, 416, 417, 418, 419, 420, and 421 (Attachment 3 to the Offer of Settlement) for those contained in the license as issued on March 24, 1997; and delete Appendices A and B from the March 24, 1997 license order. Comments and reply comments on the Settlement Agreement are due on the dates listed above.

l. A copy of the Settlement Agreement is on file with the Commission and is available for public inspection. This filing may also be viewed on the web at http://www.ferc.gov using the “RIMS” link-select “Docket #” and follow instructions (call (202) 208-2222 for assistance). A copy is also available for inspection and reproduction at the address in item h above.

David P. Boergers,
Secretary.

[FR Doc. 01-24299 Filed 9-27-01; 8:45 am]

BILLING CODE 6717-01-P